DEPARTMENT OF THE INTERIOR

Fish and Wildlife Service

Availability of an Environmental Assessment/Habitat Conservation Plan for Issuance of an Endangered Species Act Section 10(a)(1)(B) Permit for the Incidental Take of the Bald Eagle (Haliaeetus leucocephalus) During the Continued Development of the East Lake Area, The Woodlands, Montgomery County, TX

AGENCY: Fish and Wildlife Service, Interior.

ACTION: Notice of documents availability; request for comments.

SUMMARY: The Applicant, The Woodlands Operating Company, L.P., have applied to the U.S. Fish and Wildlife Service (Service) for an incidental take permit pursuant to section 10(a) of the Endangered Species Act (Act). The Applicants have been assigned permit number TE-048649-0. The requested permit, which would be for a period of 30 years, would authorize the incidental take of the threatened bald eagle (Haliaeetus leucocephalus). The proposed take would occur as a result of the otherwise lawful development of the East Lake Area of The Woodlands, Montgomery County, Texas.

An Environmental Assessment/Habitat Conservation Plan (EA/HCP) for the incidental take application has been prepared. A determination of jeopardy to the species or a Finding of No Significant Impact (FONSI) will not be made until at least 30 days from the date of publication of this notice. This notice is provided pursuant to section 10(c) of the Act and National Environmental Policy Act regulations (40 CFR 1506.6).

DATES: Written comments on the application should be received on or before November 14, 2001.

ADDRESSES: Persons wishing to review the application may obtain a copy by writing to the Regional Director, U.S. Fish and Wildlife Service, P.O. Box 1306, Albuquerque, New Mexico 87103. Persons wishing to review the EA/HCP may obtain a copy by contacting Edith Erfling, U.S. Fish and Wildlife Service, Clear Lake Ecological Services Field Office, 17629 El Camino Real, Suite 211, Houston, Texas 77058 (281/286-8282). Documents will be available for public inspection by written request, by appointment only, during normal business hours (8 to 4:30) at the U.S. Fish and Wildlife Service, Houston, Texas. Written data or comments concerning the application and EA/HCP should be submitted to the Supervisor, U.S. Fish and Wildlife Service, Houston, Texas, at the above address. Please refer to permit number TE-048649-0 when submitting comments.

FOR FURTHER INFORMATION CONTACT: Edith Erfling at the above U.S. Fish and Wildlife Service, Clear Lake Ecological Services Field Office.

SUPPLEMENTARY INFORMATION: Section 9 of the Act prohibits the “taking” of endangered species such as the bald eagle. However, the Service, under limited circumstances, may issue permits to take endangered wildlife species incidental to, and not the purpose of, otherwise lawful activities. Regulations governing permits for endangered species are at 50 CFR 17.22.

APPLICANT: The Woodlands is a 28,000-acre master-planned new community development, located approximately 30 miles north of Houston, Montgomery County, Texas. The current population of The Woodlands is approximately 63,000 residents. At build-out, the total population is expected to reach 110,000 residents. This action may result in the abandonment of a bald eagle nest site. The Applicant proposes to compensate for this incidental take by agreeing to provide buffers between forested areas and development as well as funding a bald eagle research project.

Stephen C. Helfert,
Acting Regional Director, Region 2, Albuquerque, New Mexico.

[FR Doc. 01-25852 Filed 10-12-01; 8:45 am]

BILLING CODE 4510-55-P